FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 31, 2002.

A. Federal Reserve Bank of St. Louis (Randall C. Sumner, Vice President) 411 Locust Street, St. Louis, Missouri 63166-2034:

1. First National Bank of Wynne ESOP, Wynne, Arkansas; to retain voting shares of First National Corporation of Wynne, Wynne, Arkansas, and thereby indirectly retain voting shares of First National Bank of Wynne, Wynne, Arkansas.

B. Federal Reserve Bank of Minneapolis (JoAnne F. Lewellen, Assistant Vice President) 90 Hennepin Avenue, Minneapolis, Minnesota 55480-0291:

1. Catherine E. and Kim A. Jackson, both of Waverly, Minnesota; to acquire voting shares of Graham Shares of Waverly, Inc., Waverly, Minnesota, and thereby indirectly acquire voting shares of Citizens State Bank of Waverly, Waverly, Minnesota.

Board of Governors of the Federal Reserve System, January 11, 2002.
Robert deV. Frierson,
Deputy Secretary of the Board.

[FR Doc. 02-1174 Filed 1-16-02; 8:45 am]

BILLING CODE 6210-02-S